DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on April 24-25, 2007, in room 230 at the Department of Veterans Affairs, 810 Vermont Avenue, NW., Washington, DC. The meeting will be open to the public and it will start at 8 a.m. each day. The meeting will adjourn at 5 p.m. on April 24 and at 3 p.m. on April 25.

The purpose of the Committee is to provide advice and make recommendations to the Secretary of Veterans Affairs on proposed research studies, research plans and research strategies relating to the health consequences of military service in the Southwest Asia theater of operations during the Gulf War.

The Committee will review VA program activities relating to Gulf War veterans' illnesses and updates on relevant scientific research published since the last Committee meeting. Additionally, there will be presentations and discussion of background information on the Gulf War and Gulf War veterans' illnesses, mechanisms potentially underlying chronic symptoms affecting Gulf War veterans, and discussion of Committee business and activities. The Committee will also discuss the recommendations to be included in its 2007 report.

The meeting will include time reserved for public comments. A sign-up sheet for five-minute comments will be available at the meeting. Individuals who speak are invited to submit a 1-2 page summary of their comments at the time of the meeting for inclusion in the official meeting record. Members of the public may also submit written statements for the Committee's review to Dr. Lea Steele, RAC-Gulf War Veterans' Illnesses (T-GW), U.S. Department of Veterans Affairs, 2200 SW. Gage Blvd., Topeka, KS 66622.

Any member of the public seeking additional information should contact Dr. William Goldberg, Designated Federal Officer, at (202) 254-0294, or Dr. Steele, Scientific Director, at (785) 350-3111, ext. 54617.

Dated: April 3, 2007.
By Direction of the Secretary.
E. Philip Riggin,
Committee Management Officer.

[FR Doc. 07-1752 Filed 4-9-07; 8:45 am]

BILLING CODE 8320-01-M